DEPARTMENT OF JUSTICE

Notice of Lodging of Consent Decree Under the Comprehensive Environmental Response, Compensation and Liability Act

Notice is hereby given that on April 22, 2010, a proposed Partial Consent Decree (“CD”) in United States v. James Y. Saporito and Paul Carr, Civil Action No. 07-cv-03169, was lodged with the United States District Court for the Northern District of Illinois, Eastern Division.

In this action, the United States seeks on behalf of the United States Environmental Protection Agency recovery of response costs incurred at the Crescent Plating Works Superfund Site (the “Site”) in Chicago, Illinois, pursuant to Section 107 of the Comprehensive Environmental Response, Compensation and Liability Act (“CERCLA”), 42 U.S.C. 9607. The CD resolves a claim that Paul Carr (“Settling Defendant”), as current operator of the Site, is liable to the United States for reimbursement of costs incurred as a result of responding to a release, or threat of release, of hazardous substances from the Site. Based upon the Settling Defendant's ability to pay, he will not be required to pay any response costs related to the Site. Contingent on the veracity of the Settling Defendant's certifications made in the Partial Consent Decree and his fulfilling any obligations required in the Partial Consent Decree, the United States covenants not to sue the settling defendant's pursuant to CERCLA Sections 106 and 107, 42 U.S.C. 9606 and 9607.

The Department of Justice will receive comments relating to this CD for a period of thirty (30) days from the date of this publication. Comments should be addressed to the Assistant Attorney General, Environment and Natural Resources Division, and either e-mailed to pubcomment-ees.enrd@usdoj.gov or mailed to P.O. Box 7611, U.S. Department of Justice, Washington, DC 20044-7611, and should refer to United States v. James Y. Saporito and Paul Carr, D.J. Ref. 90-11-3-08304/1.

The CD may be examined at the Office of the United States Attorney, Northern District of Illinois, Eastern Division, 219 S. Dearborn St., 5th Floor, Chicago, IL 60604 and at U.S. EPA Region 5, 77 W. Jackson Blvd., Chicago, IL 60604. During the public comment period, the CD may also be examined on the following Department of Justice Web site, http://www.usdoj.gov/enrd/Consent_Decrees.html. A copy of the CD may also be obtained by mail from the Consent Decree Library, U.S. Department of Justice, P.O. Box 7611, Washington, DC 20044-7611 or by faxing or e-mailing a request to Tonia Fleetwood (tonia.fleetwood@usdoj.gov), fax number (202) 514-0097, phone confirmation number (202) 514-1547. In requesting a copy from the Consent Decree Library, please enclose a check in the amount of $5.25 (25 cents per page reproduction cost) payable to the U.S. Treasury or, if by e-mail or fax, forward a check in that amount to the Consent Decree Library at the stated address.

Maureen Katz,
Assistant Section Chief, Environmental Enforcement Section, Environment and Natural Resources Division, United States Department of Justice.

[FR Doc. 2010-10088 Filed 4-29-10; 8:45 am]

BILLING CODE 4410-15-P